DEPARTMENT OF ENERGY

Office of Energy Efficiency and Renewable Energy

Agency Information Collection Extension

AGENCY: U.S. Department of Energy.

ACTION: Notice and Request for Comments.

SUMMARY: The Department of Energy (DOE), pursuant to the Paperwork Reduction Act of 1995), intends to extend for three years, an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before July 25, 2011. If you anticipate difficulty in submitting comments within that period, contact the person listed below as soon as possible.

ADDRESSES: Written comments may be sent to Benjamin Goldstein, Buy American Coordinator, Office of Energy Efficiency and Renewable Energy (EERE), Department of Energy, 1000 Independence Avenue, SW., Mailstop EE-2K, Washington, DC 20585 or by e-mail at BuyAmerican@ee.doe.gov.

FOR FURTHER INFORMATION CONTACT: Benjamin Goldstein, Buy American Coordinator, Office of Energy Efficiency and Renewable Energy (EERE), Department of Energy, 1000 Independence Avenue, SW., Mailstop EE-2K, Washington, DC 20585 or by e-mail at BuyAmerican@ee.doe.gov.

SUPPLEMENTARY INFORMATION: This information collection request contains: (1) OMB No. 1019-5152 (2) Information Collection Request Title: Request for Waiver of the Recovery Act Buy American provision: Domestic Nonavailability Exception; (3) Type of Review: Renewal; (4) Purpose: This information collection request relates to the Recovery Act's Buy American requirements. The request provides a standardized and streamlined way for EERE Recovery Act financial assistance recipients to submit domestic nonavailability waiver requests for manufactured goods they intend to purchase. The waiver template allows EERE to efficiently process the waiver requests and determine whether domestically manufactured alternatives exist. This request was originally approved on an emergency basis, which expired on December 31, 2010. EERE expects to continue receiving waiver requests beyond this date and therefore seeks an extension on this information collection request for three years. (5) Annual Estimated Number of Respondents: 200; (6) Annual Estimated Number of Total Responses: 200; (7) Annual Estimated Number of Burden Hours: 200; (8) Annual Estimated Reporting and Recordkeeping Cost Burden: 0.

Statutory Authority: Section 1605 of the American Recovery and Reinvestment Act of 2009 (Recovery Act; Pub. L. 111-5).

Issued in Washington, DC, on April 15, 2011.
Henry Kelly,
Acting Assistant Secretary, Energy Efficiency and Renewable Energy.

[FR Doc. 2011-12718 Filed 5-23-11; 8:45 am]

BILLING CODE 6450-01-P